DEPARTMENT OF THE INTERIOR

Bureau of Land Management

[UTU-84198]

Notice of Invitation To Participate in a Coal Exploration Program

AGENCY: Bureau of Land Management, Interior.

ACTION: Notice.

SUMMARY: This notice is an invitation to participate in a Coal Exploration program. Ark Land Company has filed the application for the Muddy Canyon Tract. All qualified parties are invited to participate with Ark Land Company on a pro rata cost sharing basis in its program for the exploration of certain Federal coal deposits in the following described lands in Sevier County, Utah:

T. 20 S., R. 5 E., SLM, Utah

Sec. 31, W½SW¼;

T. 21 S., R. 4 E., SLM, Utah

Sec. 1, all;

Sec. 11, E½E½;

Sec. 12, N½, SW¼, W½SE¼;

Sec. 13, W½NE¼, NW¼;

Sec. 14, E½NE¼:

T. 21 S., R. 5 E., SLM, Utah

Sec. 6, all.

Containing 1,848.62 acres.

FOR FURTHER INFORMATION CONTACT: Bill Buge, Salt Lake City, Bureau of Land Management, (801) 539-4086.

SUPPLEMENTARY INFORMATION: Any party electing to participate in this exploration program must send written notice of such election to the Bureau of Land Management, Utah State Office, P.O. Box 45155, Salt Lake City, Utah 84145, and to Mark Bunnell, Mine Geologist, Ark Land Company, Skyline Mine, HC 35 Box 380, Helper, Utah 84526. BLM must receive your written notice within thirty days after the date of publication of this notice in the Federal Register. Any party wishing to participate in this exploration program must be qualified to hold a lease under the provisions of 43 CFR 3472.1 and must share all cost on a pro rata basis. An exploration plan submitted by Ark Land Company, detailing the scope and timing of this exploration program is available for public review during normal business hours in the public room of the BLM State Office, 440 W. 200 S., Suite 500, Salt Lake City, Utah, under serial number UTU-84198.

Kent Hoffman,
Deputy State Director, Lands and Minerals.

[FR Doc. E6-3749 Filed 3-14-06; 8:45 am]

BILLING CODE 4310-DK-P